DEPARTMENT OF THE INTERIOR

National Park Service

National Register of Historic Places; Notification of Pending Nominations and Related Actions

Nominations for the following properties being considered for listing or related actions in the National Register were received by the National Park Service before April 25, 2008. Pursuant to section 60.13 of 36 CFR Part 60 written comments concerning the significance of these properties under the National Register criteria for evaluation may be forwarded by United States Postal Service, to the National Register of Historic Places, National Park Service, 1849 C St., NW, 2280, Washington, DC 20240; by all other carriers, National Register of Historic Places, National Park Service, 1201 Eye St., NW, 8th floor, Washington, DC 20005; or by fax, 202-371-6447. Written or faxed comments should be submitted by May 27, 2008.

J. Paul Loether,
Chief, National Register of Historic Places/National Historic Landmarks Program.

ARKANSAS

Baxter County

Cold Water School, 2422 Co. Rd. 73, Big Flat, 08000485

Cleburne County

Rector House, 603 W. Quitman St., Heber Springs, 08000486

Jackson County

Weldon Gin Company Historic District (Cotton and Rice Farm History and Architecture in the Arkansas Delta MPS) NE corner of jct. of Washington St. & AR 17, Weldon, 08000487

Johnson County

Stokes, Fremont, House, 319 Grandview Ave., Clarksville, 08000488

White County

Collison House, 206 N. Main St., Bald Knob, 08000489

Woodruff County

Cotton Plant Water Tower (New Deal Recovery Efforts in Arkansas MPS) Jct. of N. Main & N. Vine Sts., Cotton Plant, 08000490

Yell County

Ward's Crossing Bridge (Historic Bridges of Arkansas MPS) Co. Rd. 8, Plainview, 08000491

GEORGIA

Pulaski County

Hawkinsville Public School, 215 Warren St., Hawkinsville, 08000492

Richmond County

Cauley-Wheeler Memorial Building, 1339 Laney-Walker Blvd., Augusta, 08000493

MINNESOTA

Todd County

Northern Pacific Railway Depot and Freighthouse, 1st. Ave. N., Staples, 08000494

NORTH CAROLINA

Rutherford County

Carson—Andrews Mill and Ben F.W. Andrews House, Both sides of NC 1007, E., S., and W. of jct. with NC 1796, Washburn, 08000495

WEST VIRGINIA

Logan County

Blair Mountain Battlefield, Address Restricted, Logan, 08000496

[FR Doc. E8-10487 Filed 5-9-08; 8:45 am]

BILLING CODE 4312-51-P